DEPARTMENT OF COMMERCE

Foreign-Trade Zones Board

[Order No. 1302]

Approval for Expansion of Subzone 2J, Murphy Oil USA, Inc. (Oil Refinery), Meraux, Louisiana

Pursuant to its authority under the Foreign-Trade Zones Act of June 18, 1934, as amended (19 U.S.C. 81a-81u), the Foreign-Trade Zones Board (the Board) adopts the following Order:

Whereas, the Port of New Orleans, grantee of FTZ 2, has requested authority on behalf of Murphy Oil USA, Inc. (Murphy), to expand the scope of authority under zone procedures within the Murphy refinery in Meraux Louisiana (FTZ Docket 4-2003, filed 1/17/2003);

Whereas, notice inviting public comment has been given in the Federal Register (68 FR 4757, 1/30/03);

Whereas, the Board adopts the findings and recommendations of the examiner's report, and finds that the requirements of the FTZ Act and Board's regulations would be satisfied, and that approval of the application would be in the public interest if approval is subject to the conditions listed below;

Now, therefore, the Board hereby orders:

The application to expand the scope of authority under zone procedures within Subzone 2J, is approved, subject to the FTZ Act and the Board's regulations, including § 400.28, and subject to the following conditions:

1. Foreign status (19 CFR 146.41, 146.42) products consumed as fuel for the petrochemical complex shall be subject to the applicable duty rate.

2. Privileged foreign status (19 CFR 146.41) shall be elected on all foreign merchandise admitted to the subzone, except that non-privileged foreign (NPF) status (19 CFR 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

—Petrochemical feedstocks (examiners report, Appendix “C”);

—Products for export;

—And, products eligible for entry under HTSUS #9808.00.30 and#9808.00.40 (U.S. Government purchases).

Signed at Washington, DC, this 24th day of September 2003.
James J. Jochum,
Assistant Secretary for Import Administration, Alternate Chairman, Foreign-Trade Zones Board.

[FR Doc. 03-25629 Filed 10-8-03; 8:45 am]

BILLING CODE 3510-DS-U